DEPARTMENT OF THE INTERIOR

Bureau of Indian Affairs

Notice of Intent To Prepare an Environmental Impact Statement for the North Fork Rancheria's Proposed Trust Acquisition and Hotel/Casino Project, Madera County, CA

AGENCY: Bureau of Indian Affairs, Interior.

ACTION: Notice.

SUMMARY: This notice advises the public that the Bureau of Indian Affairs (BIA) intends to gather information necessary for preparing an Environmental Impact Statement (EIS) for the proposed 305± acre trust acquisition and casino development project to be located within unincorporated Madera County, California. The purpose of the proposed action is to help provide for the economic development of the North Fork Rancheria of Mono Indians (Tribe). This notice also announces a public scoping meeting to identify potential issues and content for inclusion in the EIS.

DATES: Written comments on the scope and implementation of this proposal must arrive by November 26, 2004. The public scoping meeting will be held November 15, 2004, from 6 p.m. to 9 p.m., or until the last public comment is received.

ADDRESSES: You may mail or hand carry written comments to Clay Gregory, Regional Director, Pacific Regional Office, Bureau of Indian Affairs, 2800 Cottage Way, Sacramento, California 95825. The public scoping meeting will be at the Hatfield Hall, Madera District Fairgrounds, 1850 West Cleveland Avenue, Madera, California.

FOR FURTHER INFORMATION CONTACT: William Allan, (916) 978-6043.

SUPPLEMENTARY INFORMATION: The Tribe proposes that 305± acres of land be taken into trust and that a casino, parking, hotel, and other facilities supporting the casino be constructed on the trust acquisition property. The 305± acres, which are made up of 7 parcels of land, are located within unincorporated Madera County, California, just north of the City of Madera and adjacent to State Route 99 (SR-99). The site is bounded on the north by Avenue 18, rural residential land, light industrial land, and vacant land; on the east by Golden State Boulevard and SR-99; on the south by agricultural land and residential land; and on the west by Road 23 and agricultural land.

The proposed action is to develop an approximately 472,000 square foot hotel and casino resort and associated facilities, which would include a main gaming hall, food and beverage services, retail space, banquet/meeting space, administration space, and a hotel. Food and beverage facilities would include three full service restaurants, a five-tenant food court, a buffet, four bars and a lounge. The hotel would include 200 rooms, a resort-style pool area and a spa. Approximately 4,500 parking spaces would be provided. Regional access to the project site is via SR-99. Road 23, Avenue 18, and Golden State Boulevard would provide direct access to the hotel/casino resort.

Areas of environmental concern to be addressed in the EIS include land use, geology and soils, water resources, agricultural resources, biological resources, cultural resources, mineral resources, paleontological resources, traffic and transportation, noise, air quality, public health/environmental hazards, public services and utilities, hazardous waste and materials, socio-economics, environmental justice, and visual resources/aesthetics. The range of issues addressed may be expanded based on comments received during the scoping process.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council of Environmental Quality Regulations (40 CFR parts 1500 through 1508) implementing the procedural requirements of the National Environmental Policy Act of 1969, as amended (42 U.S.C. 4371 et seq.), Department of the Interior Manual (516 DM 1-6), and is in the exercise of authority delegated to the Principal Deputy Assistant Secretary—Indian Affairs by 209 DM 8.l.

Dated: September 29, 2004.
Michael D. Olsen,
Acting Principal Deputy Assistant Secretary—Indian Affairs.

[FR Doc. 04-23998 Filed 10-26-04; 8:45 am]

BILLING CODE 4310-W7-P